DEPARTMENT OF DEFENSE

Office of the Secretary

[Docket ID: DoD-2013-OS-0221]

Privacy Act of 1974; System of Records

AGENCY: Defense Information Systems Agency, DoD.

ACTION: Notice to add a new system of records.

SUMMARY: The Defense Information Systems Agency proposes to add a new system of records, KWHC 08, entitled “DefenseReady”, to its inventory of record systems subject to the Privacy Act of 1974, as amended. This system will manage personnel and security records for the purpose of validation, analysis, and appraisal throughout the lifecycle. This system is used to track travel, security, sensitive items such as access/accountable badges, ownership and employment data of White House Communications Agency (WHCA) employees for the White House community.

DATES: This proposed action will be effective on December 27, 2013 unless comments are received which result in a contrary determination. Comments will be accepted on or before December 26, 2013.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Jeanette Weathers-Jenkins 6916 Cooper Avenue, Fort Meade, MD 20755-7901 or telephone: (301) 225-8158.

SUPPLEMENTARY INFORMATION: The Defense Information Systems Agency notices for systems of records subject to the Privacy Act of 1974 (5 U.S.C. 552a), as amended, have been published in the Federal Register and are available from the address in FOR FURTHER INFORMATION CONTACT or at http://dpclo.defense.gov/privacy/SORNs/component/disa/index.html.

The proposed system report, as required by 5 U.S.C. 552a(r) of the Privacy Act of 1974, as amended, was submitted on November 21, 2013, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: November 21, 2013.
Aaron Siegel,
Alternate OSD Federal Register Liaison Officer, Department of Defense.

KWHC 08

System name:

DefenseReady

System location:

White House Communications Agency, 2743 Defense Blvd. SW., Bldg 399, Anacostia Annex, Washington DC 20373-5117.

Categories of individuals covered by the system:

Current and former Military personnel, Federal Government employees and DoD Contractors supporting the White House Communications Agency (WHCA).

Categories of records in the system:

Full name, office room, building, home address, home of record, civilian education level, gender, race, marital status, previous work experience, date of birth, Social Security Number (SSN), DoD ID Number, communications devices (e.g., blackberries, secure travel phones), vehicles (makes, models and licenses plates) evaluations/job performance, deployment status, sensitive items (e.g., access and accountable badges), awards, decorations and medals.

Authority for maintenance of the system:

5 U.S.C. 1303 Investigations; 5 U.S.C. 3301, Civil service; 44 U.S.C. 3101, Administrative Procedure Act; DoDI 5025.01, DoD Directives Program; and E.O. 9397 (SSN), as amended.

Purpose(s):

To manage personnel and security records for the purpose of validation, analysis, and appraisal throughout the lifecycle. This system is used to track travel, security, sensitive items such as access/accountable badges, ownership and employment data of White House Communications Agency (WHCA) employees for the White House community.

Routine uses of records maintained in the system, including categories of users and the purposes of such uses:

In addition to those disclosures generally permitted under 5 U.S.C. 552a(b) of the Privacy Act of 1974, as amended, these records contained therein may specifically be disclosed outside the DoD as a routine use pursuant to 5 U.S.C. 552a(b)(3) as follows:

The DoD Blanket Routine Uses set forth at the beginning of the DISA's compilation of systems of records notices may apply to this system.

Policies and practices for storing, retrieving, accessing, retaining, and disposing of records in the system:

Storage:

Electronic storage media.

Retrievability:

Retrieved by name, SSN or other aforementioned unique identifiers.

Safeguards:

The facility is guarded 24 hours a day, 365 days a year and is on a military installation. The room is inside a Sensitive Compartmented Information Facility (SCIF).

Retention and disposal:

Disposition pending (until the National Archives and Records Administration approves retention and disposal schedule, records will be treated as permanent).

System manager(s) and address:

White House Communications Agency, Washington Area Communications Command, Information Systems Division, Enterprise Architect Branch, 2743 Defense Blvd. SW., Bldg 399, Anacostia Annex, Washington, DC 20373-5117.

Notification procedure:

Individuals seeking to determine whether information about themselves is contained in this system of records should address written inquiries to White House Communications Agency, 2743 Defense Blvd. SW., Anacostia Annex, Washington, DC 20373-5117.

The full name of the requesting individual will be required to determine if the system contains a record about him or her.

The requester may also visit one of the system managers listed on the WHCA intranet. As proof of identity the requester must present a current DISA identification badge or a driver's license.

Record access procedures:

Individuals seeking to determine whether information about themselves is contained in this system of records should address written inquiries to White House Communications Agency, 2743 Defense Blvd. SW., Anacostia Annex, Washington, DC 20373-5117.

The full name of the requesting individual will be required to determine if the system contains a record about him or her.

The requester may also visit one of the system managers listed on the WHCA intranet. As proof of identity the requester must present a current DISA identification badge or a driver's license.

Contesting record procedures:

DISAs rules for accessing records, for contesting content and appealing initial agency determinations are published in DISA Instruction 210-225-2; 32 CFR part 316; or may be obtained from the systems manager.

Record source categories:

From the individual.

Exemptions claimed for the system:

None.

[FR Doc. 2013-28323 Filed 11-25-13; 8:45 am]

BILLING CODE 5001-06-P